FEDERAL ELECTION COMMISSION

Sunshine Act Meeting

AGENCY: Federal Election Commission.

DATE AND TIME: Thursday, December 20, 2012 at 10:00 a.m.

PLACE: 999 E Street NW., Washington, DC (Ninth Floor).

STATUS: This Meeting Will Be Open to the Public.

ITEMS TO BE DISCUSSED:

Correction and Approval of the Minutes for the Meeting of December 6, 2012;

Draft Advisory Opinion 2012-35: Global Transaction Services Group, Inc.;

Draft Advisory Opinion 2012-37: Yamaha Motor Corporation, U.S.A.;

Itemization of Ultimate Payee of Committee Disbursements;

Request for Comment on the Enforcement Process;

Election of Officers;

Future Meeting Dates;

Management and Administrative Matters.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2012-30492 Filed 12-14-12; 11:15 am]

BILLING CODE 6715-01-P